DEPARTMENT OF COMMERCE

International Trade Administration

(A-351-605)

Revocation of Antidumping Duty Order: Frozen Concentrated Orange Juice from Brazil

AGENCY: Import Administration, International Trade Administration, Department of Commerce.

SUMMARY: Pursuant to section 751(c) of the Tariff Act of 1930, as amended (the Act), the United States International Trade Commission (the ITC) determined that revocation of the antidumping order on frozen concentrated orange juice (FCOJ) from Brazil would not be likely to lead to continuation or recurrence of material injury to an industry in the United States within a reasonably foreseeable time (70 FR 15884 (Mar. 29, 2005)). Therefore, pursuant to section 751(d)(2) of the Act and 19 CFR 351.222(i)(1)(iii), the Department of Commerce (the Department) is revoking the antidumping order on FCOJ from Brazil. Pursuant to section 751(c)(6)(A)(iv) of the Act and 19 CFR 351.222(i)(2)(i), the effective date of revocation of the antidumping duty order is August 5, 2004.

EFFECTIVE DATE: August 5, 2004.

FOR FURTHER INFORMATION CONTACT: Elizabeth Eastwood or Jill Pollack, AD/CVD Operations, Office 2, Import Administration, International Trade Administration, U.S. Department of Commerce, 14th Street and Constitution Avenue, NW, Washington, DC 20230, telephone: (202) 482-3874 or (202) 482-4593, respectively.

SUPPLEMENTARY INFORMATION:

Background

On April 1, 2004, the Department initiated (69 FR 17129), and the ITC instituted (69 FR 17230), a sunset review of the antidumping duty order on FCOJ from Brazil pursuant to section 751(c) of the Act. As a result of this review, the Department found that revocation of the antidumping duty order on FCOJ from Brazil would likely lead to continuation or recurrence of dumping, and notified the ITC of the magnitude of the margin likely to prevail were the antidumping duty order revoked. See Frozen Concentrated Orange Juice from Brazil; Final Results of the Expedited Sunset Review of the Antidumping Duty Order, 69 FR 54117 (Sept. 7, 2004).

On March 29, 2005, the ITC determined, pursuant to section 751(c) of the Act, that revocation of the antidumping duty order on FCOJ from Brazil would not be likely to lead to continuation or recurrence of material injury to an industry in the United States within a reasonably foreseeable time. See Frozen Concentrated Orange Juice from Brazil, 70 FR 15884 (Mar. 29, 2005), and USITC Publication 3760, March 2005.

Scope of the Order

The merchandise covered by this order is FCOJ from Brazil, and is currently classifiable under item 2009.11.00 of the Harmonized Tariff Schedule of the United States (HTSUS). The HTSUS item number is provided for convenience and customs purposes. The Department's written description of the scope of the order is dispositive.

Determination

As a result of the determination by the ITC that revocation of the antidumping duty order would not be likely to lead to continuation or recurrence of material injury to an industry in the United States, the Department, pursuant to section 751(d)(2) of the Act, is revoking the antidumping duty order on FCOJ from Brazil.

Pursuant to section 751(c)(6)(A)(iv) of the Act and 19 CFR 351.222(i)(2)(i), revocation is effective August 5, 2004, the fifth anniversary of the date of the determination to continue the order. The Department will instruct Customs and Border Protection (CBP) to discontinue the suspension of liquidation and collection of cash deposits on entries of the subject merchandise entered, or withdrawn from warehouse, for consumption on or after August 5, 2004. The Department will instruct CBP to continue to suspend liquidation of entries of the subject merchandise entered or withdrawn from warehouse, for consumption prior to August 5, 2004, and will complete any pending administrative reviews of this order and will conduct administrative reviews of these entries in response to appropriately filed requests for review.

The five-year (“sunset”) review and notice are in accordance with sections 751(c) and 777(i)(1) of the Act.

Dated: April 5, 2005.
Joseph A. Spetrini,
Acting Assistant Secretary for Import Administration.

[FR Doc. E5-1710 Filed 4-12-05; 8:45 am]

BILLING CODE 3510-DS-S